DEPARTMENT OF ENERGY

[Docket No. 13-132-LNG]

Magnolia LNG LLC; Order Amending Long-Term Authorization To Export Liquefied Natural Gas to Non-Free Trade Agreement Nations

AGENCY: Office of Fossil Energy and Carbon Management, Department of Energy.

ACTION: Amended record of decision.

SUMMARY: The Office of Fossil Energy and Carbon Management (FECM) of the Department of Energy (DOE) gives notice of an Amended Record of Decision (ROD) published under the National Environmental Policy Act of 1969 (NEPA) and implementing regulations. This Amended ROD is an Appendix to DOE/FECM Order No. 3909-C, an order that amends the previously-issued DOE/FE Order No. 3909, an opinion and order authorizing Magnolia LNG LLC to export domestically-produced liquefied natural gas (LNG) to non-free trade agreement countries under section 3(a) of the Natural Gas Act (NGA).

FOR FURTHER INFORMATION CONTACT:

Brian Lavoie, U.S. Department of Energy (FE-34), Office of Regulation, Analysis, and Engagement, Office of Resource Sustainability, Office of Fossil Energy and Carbon Management, Forrestal Building, Room 3E-042, 1000 Independence Avenue SW, Washington, DC 20585, (202) 586-2459, brian.lavoie@hq.doe.gov.

Cassandra Bernstein, U.S. Department of Energy (GC-76), Office of the Assistant General Counsel for Energy Delivery and Resilience, Forrestal Building, Room 6D-033, 1000 Independence Avenue SW, Washington, DC 20585, (202) 586-9793, cassandra.bernstein@hq.doe.gov.

SUPPLEMENTARY INFORMATION: On April 27, 2022, DOE issued Order No. 3909-C to Magnolia LNG LLC (Magnolia LNG) under NGA section 3(a), 15 U.S.C. 717b(a). This Order further amends Order No. 3909, previously issued to Magnolia LNG on November 30, 2016, under NGA section 3(a). Order No. 3909, as amended, authorized Magnolia LNG to export domestically-produced LNG by vessel to any country with which the United States has not entered into a free trade agreement (FTA) requiring national treatment for trade in natural gas, and with which trade is not prohibited by U.S. law or policy (non-FTA countries).

Order No. 3909-C authorizes an increase in the volume of exports previously authorized in the amended Order No. 3909. Under Order No. 3909-C, Magnolia LNG is authorized to export LNG in a volume equivalent to 449 billion cubic feet (Bcf) per year of natural gas (approximately 1.23 Bcf per day) to non-FTA countries from the proposed Magnolia LNG Terminal, to be located near Lake Charles, Calcasieu Parish, Louisiana.

DOE participated as a cooperating agency with the Federal Energy Regulatory Commission (FERC) in preparing a supplemental environmental impact statement (SEIS) analyzing the potential environmental impacts of the proposed increase in authorized export capacity. DOE adopted the SEIS and reviewed FERC's order authorizing the volume increase, under NEPA. DOE also supplemented FERC's environmental review with its own additional environmental studies, as well as the Marine Transport Technical Support Document prepared by DOE to consider the potential effects associated with transporting natural gas, including LNG, on marine vessels. On the basis of this record, DOE issued an Amended ROD, which is attached as an appendix to the Order. The Amended ROD can be found here: www.energy.gov/sites/default/files/2022-04/ord3909c.pdf.

Signed in Washington, DC, on April 26, 2023.
Amy Sweeney,
Director, Office of Regulation, Analysis, and Engagement, Office of Resource Sustainability.

[FR Doc. 2023-09161 Filed 4-28-23; 8:45 am]

BILLING CODE 6450-01-P